NUCLEAR REGULATORY COMMISSION

[Docket No. 50-309]

Maine Yankee Atomic Power Company, et al., Maine Yankee Atomic Power Station; Notice of Receipt and Availability for Comment of License Termination Plan and Partial Site Release License Amendment Request and Public Meeting

The U.S. Nuclear Regulatory Commission (NRC) is in receipt of and is making available for public inspection and comment the License Termination Plan (LTP), Revision 2, for the Maine Yankee Atomic Power Station (MYAPS, or the licensee) located in Lincoln County, Maine. The NRC is also in receipt of a license amendment request that would terminate license jurisdiction for a portion of the MYAPS site, thereby releasing these lands from Facility Operating License No. DPR-36 before the license is terminated.

MYAPS announced permanent cessation of power operations of MYAPS on August 7, 1997. In accordance with NRC regulations, the licensee submitted a Post-Shutdown Decommissioning Activities Report for MYAPS to the NRC on August 27, 1997. The facility is undergoing active decontamination and dismantlement.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. MYAPS submitted its proposed LTP by application dated January 13, 2000. In accordance with 10 CFR 20.1405 and 10 CFR 50.82(a)(9)(iii), the NRC provided notice to individuals in the vicinity of the site that the NRC was in receipt of the MYAPS LTP, and accepted comments from affected parties. In accordance with 10 CFR 50.82(a)(9)(iii), the NRC conducted a meeting to discuss the MYAPS LTP on May 15, 2000, in Wiscasset, Maine.

By application dated August 13, 2001, the licensee submitted Revision 2 to its proposed LTP for MYAPS. Due to the extensive changes incorporated into Revision 2, the NRC staff is again providing notice to individuals in the vicinity of the site that the NRC is in receipt of the MYAPS LTP, and will accept comments from affected parties. In addition, by application dated August 16, 2001, MYAPS submitted a license amendment request that would terminate license jurisdiction for a portion of the MYAPS site. In part, the release of these lands will facilitate the donation of a portion of this property to an environmental organization pursuant to a Federal Energy Regulatory Commission approved settlement between the licensee and its ratepayers. The NRC staff will conduct a meeting to discuss the MYAPS LTP, Revision 2, and partial site release license amendment request on Monday, March 11, 2002, at 7 p.m. at Wiscasset Middle School, 83 Federal Street, Wiscasset, Maine.

The MYAPS LTP and partial site release may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS, or who encounter problems in accessing the documents located in ADAMS, should contact the NRC PDR Reference staff by telephone at 1-800-397-4209 or 301-415-4737, or by e-mail to pdr@nrc.gov. NRC ADAMS system accession numbers are ML012320365 and ML012340447, respectively.

Comments regarding the MYAPS LTP may be submitted in writing and addressed to Mr. Michael Webb, Mail Stop O-7 D1, U.S. Nuclear Regulatory Commission, Washington, DC. 20555-0001, telephone (301) 415-1347 or e-mail mkw@nrc.gov.

Dated at Rockville, Maryland, this 4th day of February, 2002.
Michael K. Webb,
Project Manager, Section 1, Project Directorate IV, Division of Licensing Project Management, Office of Nuclear Reactor Regulation.

[FR Doc. 02-3107 Filed 2-7-02; 8:45 am]

BILLING CODE 7590-01-P